DEPARTMENT OF TRANSPORTATION

Federal Aviation Administration

Notice of Intent To Rule on Application To Impose and Use the Revenue From a Passenger Facility Charge (PFC) at Okaloosa Regional Airport, Eglin AFB, Valpairaiso, FL

AGENCY: Federal Aviation Administration (FAA), DOT.

ACTION: Notice of intent to rule on application.

SUMMARY: The FAA proposes to rule and invites public comment on the application to impose and use the revenue from a PFC at Okaloosa Regional Airport, Eglin AFB, under the provisions of the Aviation Safety and Capacity Expansion Act of 1990 (Title IX of the Omnibus Budget Reconciliation Act of 1990) (Pub. L. 101-508) and Part 158 of the Federal Aviation Regulations (14 CFR Part 158).

DATES: Comments must be received on or before August 9, 2000.

ADDRESSES: Comments on this application may be mailed or delivered in triplicate to the FAA at the following address: Orlando Airports District Office, 5950 Hazeltine National Drive, Suite 400, Orlando, FL 32822-5024.

In addition, one copy of any comments submitted to the FAA must be mailed or delivered to Mr. Jerry Sealy, Airport Director of the Okaloosa Regional Airport, Eglin AFB at the following address: Okaloosa Regional Airport, State Road 85, Eglin AFB, FL 32542-1413.

Air carriers and foreign air carriers may submit copies of written comments previously provided to Okaloosa County under section 158.23 of Part 158.

FOR FURTHER INFORMATION CONTACT: Bud Jackman, Program Manager, Orlando Airports District Office, 5950 Hazeltine National Drive, Suite 400, Orlando, FL 32822-5024, (407) 812-6331, x22. The application may be reviewed in person at this same location.

SUPPLEMENTARY INFORMATION: The FAA proposes to rule and invites public comment on the application to impose and use the revenue from a PFC at Okaloosa Regional Airport, Eglin AFB, under the provisions of the Aviation Safety and Capacity Expansion Act of 1990 (Title IX of the Omnibus Budget Reconciliation Act of 1990) (Pub. L. 101-508) and Part 158 of the Federal Aviation Regulations (14 CFR Part 158).]

On June 30, 2000, the FAA determined that the application to impose and use the revenue from a PFC submitted by Okaloosa County, Florida was substantially complete within the requirements of § 158.25 of Part 158. The FAA will approve or disapprove the application, in whole or in part, no later than October 18, 2000.

The following is a brief overview of the application.

PFC Application No.: 00-01-C-00-VPS.

Level of the proposed PFC: $3.00.

Proposed charge effective date: December 1, 2000.

Proposed charge expiration date: May 14, 2028.

Total estimated net PFC revenue: $38,358,314.

Brief description of proposed project(s):

Project VPS001: Terminal Bldg. Renovation & Expansion

Project VPS002: Terminal Aircraft Apron Expansion

Project VPS003: Widen Taxiway D-1

Project VPS004: Construct Taxiway D-2

Project VPS005: Expand Terminal Access Roadway

Project VPS006: PFC Program and Administration Costs

Class or classes of air carriers which the public agency has requested not be required to collect PFCs: Charter Operators, primarily military-related charters that (1) do not enplane or deplane passengers at the airport's main passenger terminal building and (2) enplane less than 500 passengers per year at the airport. This class of carriers represents less than 1% of total passengers enplaned annually as recorded on FAA Form 1800-31.

Any person may inspect the application in person at the FAA office listed above under FOR FURTHER INFORMATION CONTACT.

In addition, any person may, upon request, inspect the application, notice and other documents germane to the application in person at Okaloosa County, Florida.

Issued in Orlando, Florida on June 30, 2000.
John W. Reynolds, Jr.,
Acting Manager, Orlando Airports District Office, Southern Region.

[FR Doc. 00-17380 Filed 7-7-00; 8:45 am]

BILLING CODE 4910-13-M